DEPARTMENT OF VETERANS AFFAIRS

Advisory Committee for CARES Business Plan Studies; Notice of Establishment

As required by section 9(a)(2) of the Federal Advisory Committee Act, the Department of Veterans Affairs (VA) hereby gives notice of the establishment of the Advisory Committee for CARES Business Plan Studies. The Secretary of Veterans Affairs has determined that establishing the Committee is both necessary and in the public interest.

The Committee will continue the Capital Asset Realignment for Enhanced Services (CARES) process by providing site-specific advice as the process moves into its implementation phase. Thus far, the CARES process has included a February 2004 report by the CARES Commission, a federal advisory committee that conducted 38 public hearings and 81 site visits in 2003, and the Secretary's CARES Decision in May 2004 (based largely upon recommendations in the CARES Commission report).

The Secretary's CARES Decision identified implementation issues that required further study, to include additional stakeholder input, at selected sites. The Committee will fulfill the pledge to consult with stakeholders at those sites during implementation of the Secretary's CARES Decision. The Committee will ensure that the full range of stakeholder interests and concerns are assembled, publicly articulated, accurately documented, and considered in the development of site-level business plans.

Subcommittees will be established to perform duties and functions within the Committee's purview. The Committee or designated subcommittee will collect and consider stakeholder input related to the development and selection of business plans at the 21 sites designated for further study by the Secretary's CARES Decision in May 2004. The Committee or designated subcommittee will provide advice on proposed business plans or alternative business plans to be considered, and may relay any general concerns that the Department should consider during CARES implementation.

The Committee or designated subcommittee will hold public meetings at each site to seek stakeholder input. In addition to the public meetings, the Committee or designated subcommittee will gather stakeholder input through other means, such as advertising and Web site communications.

The Committee and its subcommittees may consist of representatives from veterans service organizations, governmental agencies, health care providers, planning agencies, and community organizations with a direct interest in the CARES process. The Committee and its subcommittees are expected to carry out their functions through December 2005.

Dated: September 29, 2004.
By Direction of the Secretary.
E. Philip Riggin,
Committee Management Officer.

[FR Doc. 04-22440 Filed 10-5-04; 8:45 am]

BILLING CODE 8320-01-M